DEPARTMENT OF TRANSPORTATION

Federal Aviation Administration

Notice of Intent To Rule on Change in Use of Aeronautical Property at Louisville International Airport, Louisville, KY

AGENCY: Federal Aviation Administration (FAA), Department of Transportation (DOT).

ACTION: Request for public comment.

SUMMARY: The FAA is requesting public comment on the request by the Louisville Regional Airport Authority to change a portion of airport property from aeronautical to non-aeronautical use at the Louisville International Airport, Louisville, Kentucky. The request consists approximately of 1.045 acres of formal release, and 0.145 acres for permanent easement. This action is taken under the provisions of section 125 of the Wendell H. Ford Aviation Investment Reform Act for the 21st Century (AIR 21).

DATES: Comments must be received on or before February 22, 2008.

ADDRESSES: Comments on this notice may be mailed or delivered in triplicate to the FAA at the following address: Memphis Airports District Office, 2862 Business Park Drive, Building G, Memphis, TN 38118.

In addition, one copy of any comments submitted to the FAA must be mailed or delivered to Mr. Charles T. Miller, Executive Director, Louisville Regional Airport Authority, P.O. Box 9129, Louisville, KY 40209-0129.

FOR FURTHER INFORMATION CONTACT: Mr. Tommy L. Dupree, Program Manager, Federal Aviation Administration, Memphis Airports District Office, 2862 Business Park Drive, Building G, Memphis, TN 38118, (901) 322-8185. The application may be reviewed in person at this same location, by appointment.

SUPPLEMENTARY INFORMATION: The FAA proposes to rule and invites public comment on the request to release approximately 1.045 acres and grant a permanent easement of 0.145 acres at the Louisville International Airport, Louisville, KY. Under the provisions of AIR 21 (49 U.S.C. 47107(h)(2)).

On January 14, 2008, the FAA determined that the request to release property at the Louisville International Airport submitted by the airport owner meets the procedural requirements of the Federal Aviation Administration. The FAA may approve the request, in whole or in part, no later than February 22, 2008.

The following is a brief overview of the request:

The Louisville Regional Airport Authority, owner of the Louisville International Airport, is proposing to formally release approximately 1.045 acres and grant permanent easement of approximately 0.145 acres of airport property so that property can be converted to use for industrial development.

Any person may inspect, by appointment, the request in person at the FAA office listed above under FOR FURTHER INFORMATION CONTACT.

In addition, any person may, upon appointment and request, inspect the request, notice and other documents germane to the request in person at the Louisville Regional Airport Authority, P.O. Box 9129, Louisville, KY 40209-0129.

Dated: Issued in Memphis, TN, on January 14, 2008.
Phillip J. Braden,
Manager, Memphis Airports District Office, Southern Region.

[FR Doc. 08-233 Filed 1-22-08; 8:45 am]

BILLING CODE 4910-13-M